DEPARTMENT OF COMMERCE

International Trade Administration

[A-427-801, A-428-801, A-475-801, A-588-804, A-559-801, A 412-801]

Ball Bearings and Parts Thereof from France, Germany, Italy, Japan, Singapore, and the United Kingdom: Final Results of Antidumping Duty Administrative Reviews

AGENCY: Import Administration, International Trade Administration, Department of Commerce.

SUMMARY: On May 13, 2005, the Department of Commerce published the preliminary results of the administrative reviews of the antidumping duty orders on ball bearings and parts thereof from France, Germany, Italy, Japan, Singapore and the United Kingdom. The reviews cover 19 manufacturers/exporters. The period of review is May 1, 2003, through April 30, 2004.

Based on our analysis of the comments received, we have made changes, including corrections of certain programming and other clerical errors, in the margin calculations. Therefore, the final results differ from the preliminary results. The final weighted-average dumping margins for the reviewed firms are listed below in the section entitled “Final Results of the Reviews.”

EFFECTIVE DATE: September 16, 2005.

FOR FURTHER INFORMATION CONTACT: Thomas Schauer or Kristin Case, AD/CVD Operations, Office 5, Import Administration, International Trade Administration, U.S. Department of Commerce, 14th Street and Constitution Avenue, NW, Washington, DC 20230; telephone: (202) 482-4733.

SUPPLEMENTARY INFORMATION:

Background

On June 30, 2004, in accordance with 19 CFR 351.213(b), we published a notice of initiation of administrative reviews of these orders (68 FR 39055). The companies for which we are conducting administrative reviews are as follows:

France:

❉ SKF France S.A. or Sarma (SKF France)

❉ SNR Roulements or SNR Europe (SNR)

Germany:

❉ Gebrüder Reinfurt GmbH & Co., KG, Wurzberg, Germany (GRW)

❉ INA-Schaeffler KG; INA Vermogensverwaltungsgesellschaft GmbH; INA Holding Schaeffler KG; FAG Kugelfischer Georg-Schaefer AG; FAG Automobiltechnik AG; FAG OEM und Handel AG; FAG Komponenten AG; FAG Aircraft/ Super Precision Bearings GmbH; FAG Industrial Bearings AG; FAG Sales Europe GmbH; FAG International Sales and Service GmbH (collectively FAG/INA)

❉ SKF GmbH (SKF Germany)

Italy:

❉ FAG Italia S.p.A.; FAG Automobiltechnik AG; FAG OEM und Handel AG (collectively FAG Italy)

❉ SKF Industrie S.p.A.; SKF RIV-SKF Officine di Villas Perosa S.p.A.; RFT S.p.A.; OMVP S.p.A. (collectively SKF Italy)

Japan:

❉ Asahi Seiko Co., Ltd. (Asahi)

❉ Koyo Seiko Co., Ltd. (Koyo)

❉ NSK Ltd. (NSK)

❉ NTN Corporation (NTN)

❉ Nankai Seiko Co., Ltd. (SMT)

❉ Nippon Pillow Block Company, Ltd. (NPB)

❉ Osaka Pump Co., Ltd. (Osaka Pump)

❉ Sapporo Precision Inc., Kitanihon Seiko Co., Ltd., and Sanbi Co., Ltd. (collectively Sapporo)

❉ Takeshita Seiko Co., Ltd. (Takeshita)

Singapore:

❉ NMB Singapore Ltd.; Pelmec Industries (Pte.) Ltd.; NMB Technologies Corporation (collectively NMB/Pelmec)

United Kingdom:

❉ The Barden Corporation (UK) Limited; FAG (U.K.) Limited (collectively Barden/FAG)

❉ SKF Aeroengine Bearings UK (formerly known as Aeroengine Bearings UK or NSK Aerospace) (SKF UK)

On May 13, 2005, the Department published the preliminary results of the administrative reviews of the antidumping duty orders on ball bearings and parts thereof from France, Germany, Italy, Japan, Singapore, and the United Kingdom (70 FR 25538). The period of review is May 1, 2003, through April 30, 2004. We invited interested parties to comment on the preliminary results. At the request of certain parties, we held hearings for general issues on June 28, 2005, and for Japan-specific issues on July 1, 2005. The Department has conducted these administrative reviews in accordance with section 751 of the Tariff Act of 1930, as amended (the Act).

Scope of Orders

The products covered by these orders are ball bearings (other than tapered roller bearings) and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS item numbers above are provided for convenience and customs purposes, written descriptions of the scope of these orders remain dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the Scope Determination Memorandum (Scope Memorandum) from the Antifriction Bearings Team to Laurie Parkhill, dated April 15, 2005. The Scope Memorandum is on file in the Central Records Unit (CRU), main Commerce building, Room B-099, in the General Issues record (A-100-001) for the 03/04 reviews.

Analysis of the Comments Received

All issues raised in the case and rebuttal briefs by parties to the concurrent administrative reviews of the orders on ball bearings and parts thereof are addressed in the “Issues and Decision Memorandum” (Decision Memo) from Barbara E. Tillman, Acting Deputy Assistant Secretary, to Joseph A. Spetrini, Acting Assistant Secretary, dated September 12, 2005, which is hereby adopted by this notice. A list of the issues which parties have raised and to which we have responded, all of which are in the Decision Memo, is attached to this notice as an Appendix. This Decision Memo, which is a public document, is on file in the CRU, main Commerce building, Room B-099, and is accessible on the Web at http://ia.ita.doc.gov/frn/index.html. The paper copy and electronic version of the Decision Memo are identical in content.

Sales Below Cost in the Home Market

The Department disregarded home-market sales that failed the cost-of-production test for the following firms for these final results of reviews:

Country | Company
France | SKF, SNR
Germany | GRW, INA/FAG, SKF Germany
Italy | FAG Italy, SKF Italy
Japan | Asahi, Koyo, Nankai Seiko, NPB, NSK, NTN, Osaka Pump, Takeshita
Singapore | NMB/Pelmec
United Kingdom | Barden

Use of Adverse Facts Available

In accordance with section 776(a) of the Act, we determine that the use of facts available as the basis for the weighted-average dumping margin is appropriate for SKF UK. SKF UK did not submit a response to our antidumping duty questionnaire.¹ Consequently, we find that it has withheld “information that has been requested by the administering authority” under section 776(a)(2)(A) of the Act and we must use facts otherwise available to calculate a margin for SKF UK.

¹ See memorandum from analyst to Laurie Parkhill, “The Use of Facts Available and Corroboration of Secondary Information for Aeroengine Bearings UK in the 2003/2004 Administrative Review of the Antidumping Duty Order on Ball Bearings and Parts Thereof from the United Kingdom,” dated May 6, 2005 (Corroboration Memo).

In accordance with section 776(b) of the Act, we are making an adverse inference in our application of the facts available. This is appropriate because SKF UK has not provided a response to our request for information and has not provided any acceptable rationale for its failure to respond. Therefore, we find that SKF UK has not acted to the best of its ability in providing us with relevant information which is under its control. As adverse facts available for SKF UK, we have applied the highest rate which we have calculated for any company in any segment of the proceeding on ball bearings from the United Kingdom. We have selected this rate because it is sufficiently high as to reasonably assure that SKF UK does not obtain a more favorable result by failing to cooperate. We calculated this rate, 61.14 percent, for SKF UK in the original less-than-fair-value investigation. See Antidumping Duty Orders and Amendments to the Final Determinations of Sales at Less Than Fair Value: Ball Bearings and Parts Thereof From the United Kingdom, 54 FR 20910 (May 15, 1989).

Section 776(c) of the Act provides that the Department shall, to the extent practicable, corroborate secondary information used for facts available using independent sources reasonably at its disposal. Information from a prior segment of the proceeding or from another company in the same proceeding constitutes secondary information. The Statement of Administrative Action accompanying the Uruguay Round Agreements Act, H.R. Doc. 103-316, at 870 (1994) (SAA), provides that the word “corroborate” means that the Department will satisfy itself that the secondary information to be used has probative value. As explained in Tapered Roller Bearings and Parts Thereof, Finished and Unfinished, from Japan, and Tapered Roller Bearings Four Inches or Less in Outside Diameter, and Components Thereof, from Japan: Preliminary Results of Antidumping Duty Administrative Reviews and Partial Termination of Administrative Reviews, 61 FR 57391, 57392 (November 6, 1996), in order to corroborate secondary information, the Department will examine, to the extent practicable, the reliability and relevance of the information used. Unlike other types of information, however, such as input costs or selling expenses, there are no independent sources for calculated dumping margins. The only source for margins is administrative determinations. Thus, with respect to an administrative review, if the Department chooses as facts available a calculated dumping margin from a prior segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin. See Fresh Cut Flowers from Mexico; Final Results of Antidumping Duty Administrative Review, 61 FR 6812, 6814 (February 22, 1996), where the Department disregarded the highest dumping margin as best information available because the margin was based on another company's uncharacteristic business expense resulting in an unusually high margin. Further, in accordance with F.LII De Cecco Di Filippo Fara S. Martino S.p.A. v. United States, 216 F.3d 1027, 1034 (Fed. Cir. 2000), we also examine whether information on the record would support the selected rate as reasonable facts available. This rate is the current cash-deposit rate for a number of firms, was applied to SKF UK in the previous review, and there is no information reasonably at our disposal that would indicate that there are circumstances which would render the margin not relevant at this time. Therefore, we find that the rate which we are using for these final results has probative value. See Corroboration Memo.

Furthermore, there is no information on the record that demonstrates that the rate we have selected is inappropriate for use as the total adverse facts-available rate for the company in question. Therefore, we consider the selected rate to have probative value with respect to the firm in question in this review and to reflect the appropriate adverse inferences.

Other Changes Since the Preliminary Results

Based on our analysis of comments received, we have made revisions that have changed the results for certain firms. We have corrected programming and clerical errors in the preliminary results, where applicable. Any alleged programming or clerical errors about which we or the parties do not agree are discussed in section 8 of the Decision Memo.

Final Results of the Reviews

We determine that the following percentage weighted-average margins on ball bearings and parts thereof exist for the period May 1, 2003, through April 30, 2004:

FRANCE
Company | Margin
SKF France | 8.41
SNR | 11.93

GERMANY
Company | Margin
FAG/INA | 5.65
GRW | 4.58
SKF Germany | 16.06

ITALY
Company | Margin
FAG Italy | 5.88
SKF Italy | 2.59

JAPAN
Company | Margin
Asahi | 1.33
Koyo | 12.78
NSK | 8.28
NTN | 5.93
Nankai Seiko (SMT) | 7.15
NPB | 15.83
Osaka Pump | 6.14
Sapporo | 13.01
Takeshita | 7.38

SINGAPORE
Company | Margin
NMB/Pelmec | 3.56

UNITED KINGDOM
Company | Margin
Barden/FAG | 2.78
SKF UK | 61.14

Assessment Rates

The Department will determine and CBP shall assess antidumping duties on all appropriate entries. We will issue appropriate assessment instructions directly to CBP within 15 days of publication of these final results of reviews. In accordance with 19 CFR 351.212(b)(1), we have calculated, whenever possible, an importer/customer-specific assessment rate or value for subject merchandise.The Department clarified its “automatic assessment” regulation on May 6, 2003 (68 FR 23954). This clarification will apply to entries of subject merchandise during the period of review produced by companies included in these final results of reviews for which the reviewed companies did not know their merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003).

a. Export Price

With respect to export-price (EP) sales, we divided the total dumping margins (calculated as the difference between normal value and the EP) for each exporter's importer or customer by the total number of units the exporter sold to that importer or customer. We will direct CBP to assess the resulting per-unit dollar amount against each unit of merchandise on each of that importer's or customer's entries under the relevant order during the review period.

b. Constructed Export Price

For constructed export-price (CEP) sales (sampled and non-sampled), we divided the total dumping margins for the reviewed sales by the total entered value of those reviewed sales for each importer. We will direct CBP to assess the resulting percentage margin against the entered customs values for the subject merchandise on each of that importer's entries under the relevant order during the review period. See 19 CFR 351.212(b)(1).

Cash-Deposit Requirements

To calculate the cash-deposit rate for each respondent (i.e., each exporter and/or manufacturer included in these reviews), we divided the total dumping margins for each company by the total net value of that company's sales of merchandise during the review period subject to each order.

To derive a single deposit rate for each respondent, we weight-averaged the EP and CEP deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

We will direct CBP to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of the subject merchandise entered, or withdrawn from warehouse, for consumption on or after the date of publication, as provided by section 751(a)(1) of the Act: (1) the cash-deposit rates for the reviewed companies will be the rates shown above; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) the cash-deposit rate for all other manufacturers or exporters will continue to be the “All Others” rate for the relevant order made effective by the final results of review published on July 26, 1993. See Antifriction Bearings (Other Than Tapered Roller Bearings) and Parts Thereof from France, et al: Final Results of Antidumping Duty Administrative Reviews and Revocation in Part of an Antidumping Duty Order, 58 FR 39729 (July 26, 1993). For ball bearings from Italy, see Antifriction Bearings (Other Than Tapered Roller Bearings) and Parts Thereof from France, et al; Final Results of Antidumping Duty Administrative Reviews, Partial Termination of Administrative Reviews, and Revocation in Part of Antidumping Duty Orders, 61 FR 66472, 66521 (December 17, 1996). These rates are the “All Others” rates from the relevant LTFV investigation.

These deposits requirements shall remain in effect until publication of the final results of the next administrative reviews.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO are sanctionable violations.

We are issuing and publishing these results in accordance with sections 751(a)(1) and 777(i) of the Act.

Dated: September 12, 2005.
Ronald K. Lorentzen,
Acting Assistant Secretary for Import Administration.

Appendix

Comments and Responses

1. Offsetting of Negative Margins

2. Model-Match Methodology

3. Acquisition Cost vs. Suppliers Cost

4. U.S. Repacking Costs

5. CEP Profit

6. Affiliation

7. Billing Adjustments

8. Clerical Errors

9. Miscellaneous Issues

A. NSK-U.S. Selling Expense: Treatment of Certain Japanese-Worker Expenses

B. Bearing-Design Types

C. Ordinary Course of Trade: High-Profit Sales

D. Sample Sales in the Home Market

E. Inventory Carrying Costs

F. U.S. Customs Duties

G. Packing Expense for Home-Market Sales

H. Indirect Selling Expenses Incurred in Japan

I. Indirect Selling Expenses Incurred in the United States

[FR Doc. E5-5090 Filed 9-15-05; 8:45 am]

BILLING CODE 3510-DS-S